ENVIRONMENTAL PROTECTION AGENCY

[EPA-HQ-OPPT-2006-0794; FRL-8109-1]

Review of Chemical Proposals for Addition under the Stockholm Convention on Persistent Organic Pollutants; Solicitation of Information for the Development of Risk Management Evaluations and Risk Profiles

AGENCY: Environmental Protection Agency (EPA).

ACTION: Notice.

SUMMARY: This notice solicits information relevant to the development of risk management evaluations pursuant to the Stockholm Convention on Persistent Organic Pollutants (POPs) for the following chemicals which are being reviewed for possible addition to the Stockholm Convention's (hereafter Convention) Annexes A, B, and/or C as POPs: Hexabromobiphenyl (HBB) (CAS No. 36355-01-8); pentabromodiphenyl ether (PeBDE) (CAS No. 32534-81-9); chlordecone (CAS No. 143-50-0); lindane (CAS No. 58-89-9); and perfluorooctane sulfonate (PFOS). Additionally, this notice solicits information relevant to the development of risk profiles pursuant to the Convention for the following chemicals which are also being reviewed for possible addition to the Convention's Annexes A, B, and/or C as POPs: Commercial octabromodiphenyl ether (octaBDE) (CAS No. 32536-52-0); pentachlorobenzene (PeCB) (CAS No. 608-93-5); short-chained chlorinated paraffins (SCCP) (CAS No. 85535-84-8); alpha-hexachlorocylcohexane (alpha-HCH) (CAS No. 319-84-6); and beta-hexachlorocyclohexane (beta-HCH) (CAS No. 319-85-7). EPA is issuing this notice to alert interested and potentially affected persons of these proposals and the status of their review under the Convention, and to encourage such persons to provide information relevant to the development of risk profiles and risk management evaluations under the Convention.

DATES: Comments must be received on or before January 4, 2007.

ADDRESSES: Submit your comments, identified by docket identification (ID) number EPA-HQ-OPPT-2006-0794, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2006-0794. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2006-0794. EPA's policy is that all comments received will be included in the public docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, e.g., CBI or other information whose disclosure is restricted by statute. Certain other material, such as copyrighted material, will be publicly available only in hard copy. Publicly available docket materials are available electronically at http://www.regulations.gov, or, if only available in hard copy, at the OPPT Docket, EPA Docket Center (EPA/DC). The EPA/DC suffered structural damage due to flooding in June 2006. Although the EPA/DC is continuing operations, there will be temporary changes to the EPA/DC during the clean-up. The EPA/DC Public Reading Room, which was temporarily closed due to flooding, has been relocated in the EPA Headquarters Library, Infoterra Room (Rm. 3334), EPA West Bldg., 1301 Constitution Ave., NW., Washington, DC. The EPA/DC Public Reading Room is open from 8:30 a.m. to 4:30 p.m., Monday through Friday, excluding legal holidays. The telephone number of the EPA/DC Public Reading Room is (202) 566-1744, and the telephone number for the OPPT Docket is (202) 566-0280. EPA visitors are required to show photographic identification and sign the EPA visitor log. Visitors to the EPA/DC Public Reading Room will be provided with an EPA/DC badge that must be visible at all times while in the EPA Building and returned to the guard upon departure. In addition, security personnel will escort visitors to and from the new EPA/DC Public Reading Room location. Up-to-date information about the EPA/DC is on the EPA website at http://www.epa.gov/epahome/dockets.htm.

FOR FURTHER INFORMATION CONTACT: For general information contact: Colby Linter, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Ellie Clark, Chemical Control Division (7405M), Office Pollution Prevention and Toxics, Environmental Protection Agency, 1200 Pennsylvania Ave., NW., Washington, DC 20460-0001; telephone number: (202) 564-2962; e-mail address: clark.ellie@epa.gov.

SUPPLEMENTARY INFORMATION:

I. General Information

A. Does this Action Apply to Me?

This action is directed to the public in general, and may be of particular interest to chemical substance and pesticide manufacturers, importers, and processors. Since other entities may also be interested, the Agency has not attempted to describe all the specific entities that may be affected by this action. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI. In addition to one complete version of the comment that includes information claimed as CBI, a copy of the comment that does not contain the information claimed as CBI must be submitted for inclusion in the public docket. Information so marked will not be disclosed except in accordance with procedures set forth in 40 CFR part 2.

2. Procedures for preparing confidential information related to pesticides and industrial chemicals are in Unit I.B.1. Send confidential information about industrial chemicals using the submission procedures under ADDRESSES. Send confidential information about pesticides to: Janice K. Jensen, Office of Pesticide Programs (7506P), Environmental Protection, 1200 Pennsylvania Ave., NW., Washington, DC 20460-0001 or hand delivered to: Janice K. Jensen, Government and International Services Branch, Office of Pesticide Programs, Potomac Yard South, 2777 S. Crystal Dr., Rm. #S11315, Arlington, VA 22202.

3. Commenters should note that none of the CBI information received by EPA will be forwarded to the Convention Secretariat. Information from submissions containing CBI may be considered by EPA in the development of the U.S. response. If commenters wish EPA to consider incorporating information in documents with CBI as part of the U.S. response, commenters should provide a sanitized copy of the documents. Sanitized copies must be complete except that all information claimed as CBI is deleted. EPA will place sanitized copies in the public docket.

4. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Background

A. What Action is the Agency Taking?

The Agency is issuing this notice to increase awareness of the proposals concerning the chemicals subject to this notice, and to provide interested persons with an opportunity to provide relevant information to EPA for its consideration in the development of the United States' submissions relevant to Convention Annexes E and F for the chemical substances under review at this time for possible addition to Annexes A, B, and /or C of the Convention. On November 27, 2006, and December 8, 2006, the Convention Secretariat (hereafter Secretariat) invited Parties and observers to submit to the POPs Review Committee (POPRC) (via the Secretariat) information specified in Annex F and Annex E (at http://www.pops.int/documents/meetings/poprc/poprc.htm) of the Convention, and other relevant information. The United States is an observer. EPA is requesting that any information be submitted to EPA on or before January 4, 2007. The United States intends to make a submission by February 2, 2007, to meet the Secretariat's deadline. In addition, EPA will consider the information during its review of the draft risk management evaluations and risk profiles developed by ad hoc working groups established under the POPRC in the coming months. The chemical listing process is discussed in more detail in Unit II.B. Individuals or organizations that wish to submit information directly to the POPRC via the Secretariat should work through their respective observer organizations, if any.

B. What is the Convention's Chemical Listing Process?

The Convention is a multilateral environmental agreement designed to protect human health and the environment from POPs. The United States signed the Convention in May of 2001 but has not yet ratified it (and thus is not a Party to the Convention). The United States currently participates as an observer in Convention activities. The Convention, which went into force in May of 2004, requires the Parties to reduce or eliminate the production and use of a number of intentionally produced POPs used as pesticides or industrial chemicals. The Convention also calls upon Parties to take certain specified measures to reduce releases of certain unintentionally produced POPs with the goal of their continuing minimization and, where feasible, ultimate elimination. The Convention also imposes controls on the handling of POPs wastes and on trade in POPs chemicals.

In addition, there are specific science-based procedures that Parties to the Convention must use when considering the addition of new chemicals to the Convention's Annexes. Article 8 of the Convention provides the process that must be followed for listing new chemicals in Annexes A, B, and/or C, and is described in summary below with certain associated implementation procedures being followed by POPRC:

1. A Party to the Convention may submit a proposal to the Secretariat for listing a chemical in Annexes A, B, and/or C. The proposal shall contain the information specified in Annex D of the Convention (“Information Requirements and Screening Criteria”).

2. The Secretariat verifies that the proposal contains the information specified in Annex D, and if the Secretariat is satisfied, the proposal is forwarded to POPRC.

3. POPRC examines the proposal, applies the Annex D screening criteria, and determines whether the screening criteria have been fulfilled.

4. If POPRC is satisfied that the criteria have been fulfilled, POPRC, through the Secretariat, will make the proposal and POPRC's evaluation available to all Parties and observers and invite them to submit the information specified in Annex E (“Information Requirements for the Risk Profiles”).

5. Draft risk profiles are prepared by ad hoc working groups under POPRC in accordance with Annex E for consideration by POPRC and made available to all Parties and observers to collect technical comments.

6. POPRC reviews the draft risk profile and technical comments, completes the risk profile, and determines whether the chemical is likely, as a result of its long-range environmental transport, to lead to significant adverse human health and/or environmental effects, such that global action is warranted.

7. If POPRC determines that action is warranted, then POPRC, through the Secretariat, will ask Parties and observers to provide information specified in Annex F (“Information on Socio-Economic Considerations”) to aid in the development of risk management evaluations (that include an analysis of possible control measures).

8. Draft risk management evaluations are prepared by ad hoc working groups under POPRC in accordance with Annex F for consideration by POPRC and made available to Parties and observers to collect technical comments.

9. POPRC reviews the draft risk management evaluation prepared by the ad hoc working group and completes it.

10. On the basis of the risk profile and the risk management evaluation for each chemical, POPRC recommends whether the chemical should be considered by the Conference of the Parties (COP) for listing in Annexes A, B, and/or C. (The type(s) of control measure(s) that might be introduced for a specific chemical would dictate whether the chemical would be listed in Annex A (elimination), Annex B (restriction), and/or Annex C (unintentional production) of the Convention.).

11. COP makes the final decision on listing the chemical in Annexes A, B, and/or C.

EPA anticipates issuing Federal Register notices soliciting information, when appropriate, during the listing process.

C. What Information is Being Requested for Risk Management Evaluations?

For the chemicals currently at the risk management stage (see Unit II.G.), EPA is seeking information that is supplementary to the information provided during previous stages in the review process (i.e., information relevant to Annexes D and E; the proposals, evaluations and risk profiles, as well as the Secretariat's letter soliciting information, are available at the Convention website (http://www.pops.int/documents/meetings/poprc/poprc.htm)). In addition, POPRC identified specific areas where information and data relevant to the chemicals under consideration would be particularly useful for the future process. This information is discussed in Unit II.G.

When providing information, keep in mind that the possible control measures under the Convention include, among others, the prohibition or severe restriction of production and use. Therefore, the provision of accurate, high quality information, as described in this notice and in the Secretariat letter soliciting information, is a priority for POPRC's evaluation.

Commenters are invited to provide information they deem relevant to POPRC's development of the risk management evaluation, such as that specified in Annex F of the Convention and other related information, as described below and in Unit II.G. Provide summary information and relevant references for:

1. Efficacy and efficiency of possible control measures in meeting risk reduction goals:

i. Describe possible control measures.

ii. Technical feasibility.

iii. Costs, including environmental and health costs.

2. Alternatives (products and processes):

i. Describe alternatives.

ii. Technical feasibility.

iii. Costs, including environmental and health costs.

iv. Efficacy.

v. Risk.

vi. Availability.

vii. Accessibility.

3. Positive and/or negative impacts on society of implementing possible control measures:

i. Health, including public, environmental, and occupational health.

ii. Agriculture, including aquaculture and forestry.

iii. Biota (biodiversity).

iv. Economic aspects.

v. Movement towards sustainable development.

vi. Social costs.

4. Waste and disposal implications (in particular, obsolete stocks of pesticides and clean-up of contaminated sites):

i. Technical feasibility.

ii. Cost.

5. Access to information and public education.

6. Status of control and monitoring capacity.

7. Any national or regional control actions taken, including information on alternatives, and other relevant risk management information.

8. Other relevant information for the risk management evaluation.

9. Other information requested by POPRC.

POPRC would also like to collect more Annex E information and has requested additional or updated information for the following:

• Production data, including quantity and location.

• Uses.

• Releases, such as discharges, losses, and emissions.

D. What information is Being Requested for Risk Profiles?

For chemicals at the risk profile stage (see Unit II.H.), EPA is seeking information that is supplementary to the information in the proposals on the chemicals and POPRC's evaluation of the proposals against the Annex D screening criteria. The proposals and the evaluations, as well as the Secretariat's letter inviting Parties and observers to provide information, are available at the Convention website: http://www.pops.int/documents/meetings/poprc/poprc.htm. In addition, POPRC has identified some additional types of information on SCCP that would be useful in the development of the risk profiles. That information is discussed in Unit II.H. and can also be found in the Secretariat's Letter of Invitation.

EPA has previously solicited information through the Lindane Reregistration Eligibility Document (RED), lindane and other HCH isomers risk assessments, and through its participation in the draft North American Regional Action Plan (NARAP) on Lindane and other hexachlorocyclohexane isomers. Consequently, EPA is only interested in any new information on alpha- and beta-hexachlorocyclohexane that may have been developed since those activities.

Commenters are invited to provide information they deem relevant to POPRC's development of risk profiles, such as that specified in Annex E of the Convention and other related information, as described below and in Unit II.H.:

1. Sources, including as appropriate:

i. Production data, including quantity and location.

ii. Uses.

iii. Releases, such as discharges, losses, and emissions.

2. Hazard assessment for the endpoint or endpoints of concern (as identified in the proposals and/or POPRC's evaluation of the proposals against the screening criteria of Annex D), including a consideration of toxicological interactions involving multiple chemicals.

3. Environmental fate, including data and information on the chemical and physical properties of a chemical as well as its persistence and how they are linked to its environmental transport, transfer within and between environmental compartments, degradation, and transformation to other chemicals.

4. Monitoring data.

5. Exposure in local areas and, in particular, as a result of long-range environmental transport, and including information regarding bio-availability.

E. How Should the Information be Provided?

1. EPA requests that commenters, where possible, use the questionnaire developed by POPRC to provide their information. The questionnaire with explanatory notes can be found on the Convention website at: http://www.pops.int/documents/meetings/poprc/poprc.htm. Information does not need to be provided for each item in the questionnaire. The explanatory notes under each item have been developed by POPRC and are meant to guide and assist the providers of information. Commenters are requested to include clear and precise references for all sources. Without the exact source of the information, POPRC will not be able to use the information. If the information is not readily available in the public literature, commenters may consider attaching the original source of the information to their submission. Commenters should indicate clearly on the questionnaire which chemical the information concerns and use one questionnaire per chemical. If for some reason the questionnaire does not provide an adequate mechanism for a type of comment or information, EPA requests that such comment or information be submitted using a similar format.

2. Although POPRC has developed provisional arrangements for the treatment of confidential information, as mentioned in Unit I.B.3. No CBI will be forwarded to the Secretariat. EPA will, however, consider such information in development of the U.S. response to the Secretariat. Instructions on where and how to submit comments and confidential information can be found in Unit I.B.2. and 3. and ADDRESSES.

3. Anyone wishing to have an opportunity to communicate with EPA orally on this issue should consult the technical person listed under FOR FURTHER INFORMATION CONTACT.

F. What is the Agency's Authority for Taking this Action?

EPA is requesting comment and information under the authority of section 102(2)(F) of the National Environmental Policy Act, 42 U.S.C. 4321 et seq., which directs all agencies of the U.S. Federal Government to “[r]ecognize the worldwide and long-range character of environmental problems and, where consistent with the foreign policy of the United States, lend appropriate support to initiatives, resolutions and programs designed to maximize cooperation in anticipating and preventing a decline in the quality of mankind's world environment.” Section 17(d) of the Federal Insecticide, Fungicide and Rodenticide Act (FIFRA) also provides additional support in that it directs the Administrator of EPA “in cooperation with the Department of State and any other appropriate Federal agency, [to] participate and cooperate in any international efforts to develop improved pesticide research and regulations.”

G. What is the Status of Chemicals at the Risk Management Stage?

The first meeting of POPRC, took place November 7-11, 2005, in Geneva, Switzerland. Information about the Convention and the November POPRC meeting is available at the Convention website (http://www.pops.int and http://www.pops.int/documents/meetings/poprc/poprc.htm), respectively. POPRC had before it five proposals which were submitted for its consideration by Parties to the Convention, for addition to Annexes A, B, and/or C of the Convention. Three of the five proposals were for industrial chemicals:

• Pentabromodiphenyl ether.

• Hexabromobiphenyl.

• Perfluorooctane sulfonate.

Two of the five proposals were for pesticides:

• Lindane.

• Chlordecone.

In accordance with the procedure laid down in Article 8 of the Convention and discussed in Unit II.B., during the November meeting, POPRC examined the proposals and applied the screening criteria in Annex D of the Convention. With regard to all five chemicals, POPRC decided that it was satisfied that the screening criteria had been fulfilled and that further work should therefore be undertaken to develop risk profiles. Therefore, POPRC, through the Secretariat, requested that Parties and observers provide information relevant to POPRC's development of risk profiles for the five chemicals listed in this unit. In the Federal Register notice of January 30, 2006 (71 FR 4913) (FRL-7758-9), EPA invited commenters to provide EPA with information for the risk profiles.

The second meeting of POPRC took place November 6-10, 2006 in Geneva, Switzerland. EPA provided notice of this meeting and the POPRC's intention to consider risk profiles for the five chemicals in the Federal Register notice of October 6, 2006 (71 FR 59108) (FRL-8099-2). Information about the November POPRC meeting is available at the Convention website http://www.pops.int/documents/meetings/poprc/poprc.htm.

In accordance with the procedure laid down in Article 8 of the Convention and discussed in Unit II.B., during the November 2006 meeting POPRC examined the risk profiles with respect to the requirements in Annex E of the Convention. With regard to all five chemicals, POPRC decided that, based on the risk profiles, these chemicals were likely, as a result of their long-range environmental transport, to lead to significant adverse human health and environmental effects such that global action is warranted. Additionally, in accordance with paragraph 7(a) of Article 8 of the Convention, POPRC invited Parties and observers to submit to the Secretariat the information specified in Annex F to the Convention by February 2, 2007.

The next step in the process is for POPRC to prepare a risk management evaluation that includes an analysis of possible control measures, which as noted in Annex F (“Information on Socio-Economic Considerations”) should encompass “the full range of options, including management and elimination.” The risk management evaluation shall further evaluate and elaborate on the information referred to in Annexes D and E. Relevant information should include socio-economic considerations associated with possible control measures (see Unit II.C.) and should reflect due regard for the differing capabilities and conditions among the Parties. A draft outline of the risk management evaluation has been developed by POPRC, available in Annex IV of UNEP/POPS/POPRC.2/6, which can be found at http://www.pops.int/documents/meetings/poprc/poprc.htm. The risk management evaluation will take into account information to be submitted by Parties and observers as requested by POPRC through the Secretariat (a current step). Draft risk management evaluations developed by ad hoc working groups established under POPRC will be considered by the full POPRC and proceed as discussed in Unit II.B.

In addition to the Annex F information discussed in Unit II.C., POPRC identified the following specific areas where information and data relevant to the chemicals under consideration would be particularly useful for the future process.

1. Perfluorooctane sulfonate. POPRC is seeking data related to all potential PFOS precursors under the headings listed in Annex F. For purposes of this request, PFOS-related substances/potential PFOS precursors can be considered as all molecules having the following molecular formula: C8F17SO2Y, where Y = OH, metal or other salt, halide, amide and other derivatives including polymers. A listing of potential precursors is provided on the POPRC website. This list was originally offered as additional information by Sweden in its 2005 proposal for listing PFOS. In addition to Annex F information, information is requested on the following:

i. Releases of PFOS and PFOS precursors from specific sources (including, but not limited to, consumer products, waste disposal, production, manufacturing and formulation).

ii. Production and uses of PFOS precursors.

iii. Toxicity and toxico-kinetics of PFOS precursors.

iv. Degradation and transformation rates of PFOS precursors into PFOS, notably under environmentally relevant conditions.

v. Bioavailability and accumulation of PFOS precursors.

vi. Solubility of PFOS precursors in water (including dissociation constants where appropriate).

2. Chlordecone. When evaluating chlordecone against the criteria contained in Annex D and during the preparation of the risk profile as described in Annex E, there was a lack of data on long-range environmental transport. Therefore, in addition to seeking information under the headings listed in Annex F, POPRC is seeking:

i. Monitoring data for chlordecone in remote areas and areas far from sources.

ii. Model results demonstrating long-range environmental transport.

3. Hexabromobiphenyl. When evaluating HBB against the criteria contained in Annex D and during the preparation of the risk profile as described in Annex E, it was considered that the risk profile would benefit from further data. Therefore, in addition to seeking information under the headings listed in Annex F, POPRC is seeking:

i. Data related to the ecotoxicity of HBB in aquatic systems and under environmentally relevant conditions, including exposures via food in aquatic species.

ii. Laboratory or field food-chain studies.

iii. Additional mammalian toxicity data.

iv. Critical body burdens.

v. Toxicokinetic information.

4. Lindane. When evaluating lindane (gamma-hexachlorocyclohexane (HCH)) against the criteria in Annex D, as well as during discussions on the risk profile according to Annex E, it became clear that the other two major isomers (alpha- and beta-HCH) should also be considered. For both alpha- and beta-HCH, POPRC satisfied itself at the November 2006 meeting that the screening criteria have been fulfilled. The draft risk profiles for alpha- and beta-HCH are currently being compiled by POPRC, and the request for Annex E information on them is discussed in Unit II.H. To facilitate an effective assessment for lindane under Annex F, the Secretariat's request stated that it would be very useful to receive and evaluate Annex F information on alpha- and beta-HCH at the same time. Having Annex F information on all three isomers will enable POPRC to treat them consistently as it prepares the risk management statement for lindane and alpha- and beta-HCH. In addition to the information listed in Annex F, information is requested on the following:

i. Whether production of lindane takes place (and quantities, if possible).

ii. Whether processes are used whereby the formation of unwanted isomers are reduced (and if possible to what extent).

iii. Whether alpha- and beta-HCH are used as raw materials in the production of other chemicals.

iv. The amounts of alpha- and beta-HCH generated as waste during the production of lindane.

v. Management of alpha- and beta-HCH wastes.

vi. Releases to the environment of alpha- and beta-HCH from stockpiles, obsolete stocks, and production wastes.

5. Commercial pentabromodiphenyl ether (C-pentaBDE). Evaluation of the risk profile for C-pentaBDE indicated the need for additional specificity on production, uses, and releases for this chemical mixture. Therefore, in addition to seeking information under the headings listed in Annex F, POPRC is seeking quantitative and qualitative data related to the production, uses, and releases of C-pentaBDE and its components.

H. What is the Status of Chemicals at the Risk Profile Stage?

The second meeting of POPRC took place on November 6-10, 2006, in Geneva, Switzerland. EPA provided notice of this meeting and POPRC's intention to consider proposals for the five chemicals listed below in the Federal Register notice of October 6, 2006. Information about the November POPRC meeting is available at the Convention website (http://www.pops.int/documents/meetings/poprc/poprc.htm), respectively. POPRC had before it five proposals which were submitted for its consideration by Parties to the Convention for addition to Annexes A, B, and/or C of the Convention.

1. Two of the five proposals were for industrial chemicals:

• Octabromodiphenyl ether.

• Short-chained chlorinated paraffins.

2. One of the five proposals was for a chemical with both industrial and pesticidal uses:

• Pentachlorobenzene.

3. Two of the five proposals were for pesticides:

• Alpha-hexachlorocyclohexane.

• Beta-hexachlorocyclohexane.

In accordance with the procedure laid down in Article 8 of the Convention and discussed in Unit II.B., during the November meeting, POPRC examined the proposals and applied the screening criteria in Annex D of the Convention. With regard to all five chemicals, POPRC decided that it was satisfied that the screening criteria had been fulfilled and, in accordance with paragraph 4(a) of Article 8 of the Convention, POPRC invited Parties and observers to submit to the Secretariat the information specified in Annex E to the Convention by February 2, 2007.

The next step in the process is for POPRC to prepare a risk profile for each of the chemicals to, as noted in Annex E, “evaluate whether the chemical is likely, as a result of its long-range environmental transport, to lead to significant adverse human health and/or environmental effects, such that global action is warranted.” The risk profile must further evaluate and elaborate on the information referred to in Annex D of the Convention and include, as far as possible, the information listed in Annex E. A draft outline of the risk profile has been developed by POPRC, available at http://www.pops.int/documents/meetings/poprc/poprc.htm. The risk profile will take into account information to be submitted by Parties and observers, as requested by POPRC through the Secretariat (a current step). The draft risk profiles developed by ad hoc working groups established under POPRC will be considered by the full POPRC and proceed as discussed in Unit II.B.

In addition to the Annex E information discussed in Unit II.D., POPRC determined, and the Secretariat requested in their December 8, 2006 letter, that additional information on the environmental fate of short-chained chlorinated paraffins or information relating to their properties which would enable a fuller evaluation of environmental fate as being particularly useful for the future process.

List of Subjects

Environmental protection, Chemicals, Hazardous substances.

Dated: December 14, 2006.
Wendy Cleland-Hamnett,
Acting Director, Office of Pollution Prevention and Toxics.

[FR Doc. E6-21727 Filed 12-19-06; 8:45 am]

BILLING CODE 6560-50-S